INTERNATIONAL TRADE COMMISSION

[Inv. No. 337-TA-471]

Notice of Commission Decision Not To Review an Initial Determination Granting Complainant EMC Corporation's Motion To Terminate the Investigation as to Certain Claims and To Amend the Complaint and Notice of Investigation by Adding Two Claims

In the matter of: certain data storage systems and components thereof.

AGENCY: U.S. International Trade Commission.

ACTION: Notice.

SUMMARY: Notice is hereby given that the U.S. International Trade Commission has determined not to review an initial determination (“ID”) issued by the presiding administrative law judge (ALJ) in the above-captioned investigation granting complainant EMC Corporation's motion to terminate the investigation as to certain claims and to amend the complaint and notice of investigation by adding two claims.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on May 9, 2002, based on a complaint filed by EMC Corporation of Hopkinton, Massachusetts (“EMC”), against Hitachi, Ltd. of Tokyo, Japan, and Hitachi Data Systems Corporation of Santa Clara, California. 67 FR 34472 (2002). The complaint alleges violations of section 337 in the importation and sale of certain data storage systems or components thereof by reason of infringement of certain claims of complainant's U.S. Patent Nos. 5,742,792; 5,544,347; 6,092,066; 6,101,497; 6,108,748; and 5,909,692.

On September 20, 2002, EMC filed a motion to terminate the investigation as to a total of 64 claims and to amend the complaint and notice of investigation by adding two claims. On October 4, 2002, respondents filed a response in which they stated that they did not oppose EMC's motion. Also on October 4, 2002, the Commission's investigative attorney filed a response in support of the EMC's motion. On October 8, 2002, the ALJ issued an ID granting complainant's motion. No party filed a petition for review of the ID.

The authority for the Commission's determination is contained in section 337 of the Tariff Act of 1930, as amended (19 U.S.C. 1337), and in section 210.42 of the Commission's rules of practice and procedure (19 CFR 210.42).

By order of the Commission.
Issued: November 18, 2002.
Marilyn R. Abbott,
Secretary to the Commission.

[FR Doc. 02-29759 Filed 11-21-02; 8:45 am]

BILLING CODE 7020-02-P